FEDERAL RESERVE SYSTEM

Agency Information Collection Activities: Announcement of Board Approval Under Delegated Authority and Submission to OMB

AGENCY: Board of Governors of the Federal Reserve System

SUMMARY:

Background.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer --Michelle Shore--Division of Research and Statistics, Board of Governors of the Federal Reserve System, Washington, DC 20551 (202-452-3829).

OMB Desk Officer--Alexander T. Hunt--Office of Information and Regulatory Affairs, Office of Management and Budget, New Executive Office Building, Room 10235, Washington, DC 20503.

Final approval under OMB delegated authority of the extension for three years, without revision, of the following reports:

1. Report title: Notification of Nonfinancial Data Processing Activities

Agency form number: FR 4021

OMB control number: 7100-0306

Frequency: On occasion

Reporters: Bank holding companies

Annual reporting hours: 4 hours

Estimated average hours per response: 2 hours

Number of respondents: 2

General description of report: This information collection is required to obtain a benefit. (12 U.S.C. 1843(c)(8), (j) and (k)) and may be given confidential treatment upon request (5 U.S.C. 552(b)(4)).

Abstract: Bank holding companies submit this notification to request permission to administer the 49-percent revenue limit on nonfinancial data processing activities on a business-line or multiple-entity basis. A request may be filed in a letter form; there is no reporting form for this information collection.

2. Report title: Survey of Financial Management Behaviors of Military Personnel

Agency form number: FR 1375

OMB control number: 7100-0307

Frequency: Semi-annually

Reporters: Military personnel

Annual reporting hours: 2,640 hours

Estimated average hours per response: 20 minutes

Number of respondents: 4,000

General description of report: This information collection is voluntary. The statutory basis for collecting this information is section 2A of the Federal Reserve Act [12 U.S.C. § 225a]; the Bank Merger Act [12 U.S.C. § 1828(c)]; and sections 3 and 4 of the Bank Holding Company Act [12 U.S.C. §§ 1842 and 1843 and 12 U.S.C. §§ 353 and 461]. No issue of confidentiality normally arises because names and any other characteristics that would permit personal identification of respondents will not be reported to the Board.

Abstract: This survey gathers data from two groups of military personnel: (1) those completing a financial education course as part of their advanced training and (2) those not completing a financial education course. These two groups are surveyed on their financial management behaviors and changes in their financial situations over time. Data from the survey help to determine the effectiveness of financial education for young adults in the military and the durability of the effects as measured by financial status of those receiving financial education early in their military careers.

3. Report title: Survey to Obtain Information on the Relevant Market in Individual Merger Cases

Agency form number: FR 2060

OMB control number: 7100-0232

Frequency: On occasion

Reporters: Small businesses and consumers

Annual reporting hours: 18 hours

Estimated average hours per response: Small businesses, 10 minutes; Consumers, 6 minutes.

Number of respondents: 25 small businesses and 50 consumers per survey

General description of report: This information collection is voluntary (12 U.S.C. 1817(j), 1828(c), and 1842)) and is given confidential treatment (5 U.S.C. 552 (b)(4) and (b)(6)).

Abstract: The Federal Reserve uses this information to define relevant banking markets for specific merger and acquisition applications and to evaluate changes in competition that would result from proposed transactions.

4. Report title: Notice of Branch Closure

Agency form number: FR 4031

OMB control number: 7100-0264

Frequency: On occasion

Reporters: State member banks

Annual burden hours: 423 hours

Estimated average hours per response: Reporting requirements, 2 hours; Disclosure requirements, 1 hour; Recordkeeping requirements, 8 hours.

Number of respondents: 124

General description of report: This information collection is mandatory (12 U.S.C. 1831r-l(a)(1)) and may be given confidential treatment upon request (5 U.S.C. 552(b)(4)).

Abstract: The mandatory reporting, recordkeeping, and disclosure requirements regarding the closing of any branch of an insured depository institution are imposed by section 228 of the Federal Deposit Insurance Corporation Improvement Act of 1991. There is no reporting form associated with the reporting portion of this information collection; state member banks notify the Federal Reserve by letter prior to closing a branch. The Federal Reserve uses the information to fulfill its statutory obligation to supervise state member banks.

5. Report title: Reports Related to Securities of State Member Banks as Required by Regulation H

Agency form number: Reg H-1

OMB Control number: 7100-0091

Frequency: Quarterly and on occasion

Reporters: State member banks

Annual reporting hours: 1,477 hours

Estimated average hours per response: 5.11 hours

Number of respondents: 17

General description of report: This information collection is mandatory (15 U.S.C. 781(i)) and is not given confidential treatment.

Abstract: The Federal Reserve's Regulation H requires certain state member banks to submit information relating to their securities to the Federal Reserve on the same forms that bank holding companies and nonbank entities use to submit similar information to the Securities and Exchange Commission. The information is primarily used for public disclosure and is available to the public upon request.

Current Actions: On March 9, 2007, the Federal Reserve published a notice in the Federal Register (72 FR 10762) requesting public comment for 60 days on the extension, without revision, of the: FR 4021, FR 1375, FR 2060, FR 4031, and Reg H-1. The comment period for this notice expired on May 8, 2007. No substantive comments were received.

Board of Governors of the Federal Reserve System, May 11, 2007.
Jennifer J. Johnson
Secretary of the Board.

[FR Doc. E7-9444 Filed 5-16-07; 8:45 am]

BILLING CODE 6210-01-S